DEPARTMENT OF COMMERCE

International Trade Administration

[A-583-008]

Certain Circular Welded Carbon Steel Pipes and Tubes From Taiwan: Final Results of Antidumping Duty Administrative Review, 2017-2018

AGENCY: Enforcement and Compliance, International Trade Administration, Department of Commerce.

SUMMARY: The Department of Commerce (Commerce) determines that Shin Yang Steel Co., Ltd. (Shin Yang), a producer/exporter of merchandise subject to this administrative review, made sales of subject merchandise at less than normal value during the period of review (POR) May 1, 2017 through April 30, 2018. The final weighted-average dumping margins for the reviewed firms are listed below in the section entitled, “Final Results of the Review.”

DATES: Applicable January 22, 2020.

FOR FURTHER INFORMATION CONTACT: Hannah Falvey or Nicolas Mayora, AD/CVD Operations, Office V, Enforcement and Compliance, International Trade Administration, U.S. Department of Commerce, 1401 Constitution Avenue NW, Washington, DC 20230; telephone: (202) 482-4889 or (202) 482-3053, respectively.

SUPPLEMENTARY INFORMATION:

Background

On July 18, 2019, Commerce published the Preliminary Results of the administrative review of certain circular welded carbon steel pipes and tubes from Taiwan.¹ We invited interested parties to comment on the Preliminary Results. A summary of events that occurred since Commerce published the Preliminary Results can be found in the Issues and Decision Memorandum.² Commerce conducted this administrative review in accordance with section 751 of the Tariff Act of 1930, as Amended (the Act).

¹ See Certain Circular Welded Carbon Steel Pipes and Tubes from Taiwan: Preliminary Results of Antidumping Duty Administrative Review; 2017-2018, 84 FR 34337 (July 18, 2019) (Preliminary Results).

² See Memorandum, “Issues and Decision Memorandum for Final Results of the 2017-2018 Administrative Review of the Antidumping Duty Order on Certain Circular Welded Carbon Steel Pipes and Tubes from Taiwan,” dated concurrently with and hereby adopted by this notice (Issues and Decision Memorandum).

Scope of the Order

The merchandise subject to the order is certain circular welded carbon steel pipes and tubes from Taiwan. The products are currently classifiable under the Harmonized Tariff Schedule of the United States (HTSUS) subheadings: 7306.30.5025, 7306.30.5032, 7306.30.5040, and 7306.30.5055. Although the HTSUS subheadings are provided for convenience and customs purposes, the written product description of the scope of order remains dispositive. For a full description of the scope, see the Issues and Decision Memorandum.³

³ For a full description of the scope, see the Issues and Decision Memorandum.

Analysis of Comments Received

All issues raised in the case and rebuttal briefs are addressed in the Issues and Decision Memorandum. A list of the issues addressed in the Issues and Decision Memorandum is attached to this notice as an Appendix. The Issues and Decision memorandum is a public document and is on file electronically via Enforcement and Compliance's Antidumping and Countervailing Duty Centralized Electronic Service System (ACCESS). ACCESS is available to registered users at https://access.trade.gov and in the Central Records Unit (CRU), Room B8024 of the main Commerce building. In addition, a complete version of the Issues and Decision Memorandum can be accessed directly at http://enforcement.trade.gov/frn/. The signed and electronic versions of the Issues and Decision Memorandum are identical in content.

Final Determination of No Shipments

In the Preliminary Results, Commerce preliminarily determined that Sheng Yu Steel Co., Ltd. (Sheng Yu), Tension Steel Industries Co., Ltd. (Tension Steel), Yieh Hsing Enterprise Co., Ltd. (Yieh Hsing), and Pat & Jeff Enterprise Co., Ltd. (P&J) had no shipments during the POR.⁴ Following publication of the Preliminary Results, we received no comments from interested parties regarding this decision. As a result, and because the record contains no evidence to the contrary, we continue to find that Sheng Yu, Tension Steel, Yieh Hsing, and P&J made no shipments during the POR. Accordingly, consistent with Commerce's practice, we intend to instruct U.S. Customs and Border Protection (CBP) to liquidate any existing entries of merchandise produced by Sheng Yu, Tension Steel, Yieh Hsing, and P&J but exported by other parties without their own rate, at the all-others rate.⁵

⁴ See Preliminary Results, 84 FR at 34338, and accompanying Preliminary Decision Memorandum, at 2-3.

⁵ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Final Results of the Review

We determine that the following weighted-average dumping margins exist for Shin Yang and the 15 companies not selected for individual review, for the period May 1, 2017 through April 30, 2018:

Producer/exporter | Dumping margin (percent)
Shin Yang Steel Co., Ltd | 2.73
Chung Hung Steel Corp | 2.73
Far East Machinery Co., Ltd | 2.73
Far East Machinery Group | 2.73
Fine Blanking & Tool Co., Ltd | 2.73
Hou Lih Co., Ltd | 2.73
Kao Hsing Chang Iron & Steel Corp | 2.73
Lang Hwang Corp | 2.73
Locksure Inc | 2.73
New Chance Products Co., Ltd | 2.73
Pin Tai Metal Inc | 2.73
Shang Jouch Industrial Co., Ltd | 2.73
Shuan Hwa Industrial Co., Ltd | 2.73
Titan Fastech Ltd | 2.73
Yeong Shien Industrial Co., Ltd | 2.73
Yousing Precision Industry Co., Ltd | 2.73

Assessment

Commerce shall determine, and CBP shall assess, antidumping duties on all appropriate entries covered by this review pursuant to section 751(a)(2)(C) of the Act and 19 CFR 351.212(b).

For Shin Yang, because its weighted-average dumping margin is not zero or de minimis (i.e., less than 0.5 percent), Commerce has calculated importer-specific antidumping duty assessment rates. We calculated importer-specific antidumping duty assessment rates by aggregating the total amount of dumping calculated for the examined sales of each importer and dividing each of these amounts by the total sales quantity associated with those sales. We will instruct CBP to assess antidumping duties on all appropriate entries covered by this review where an importer-specific assessment rate is not zero or de minimis. Pursuant to 19 CFR 351.106(c)(2), we will instruct CBP to liquidate without regard to antidumping duties any entries for which the importer-specific assessment rate is zero or de minimis.

For the companies which were not selected for individual review, we will assign an assessment rate equal to Shin Yang's dumping margin identified above.⁶ The final results of this review shall be the basis for the assessment of antidumping duties on entries of merchandise covered by the final results of this review and for future deposits of estimated duties, where applicable.⁷

⁶ The Act does not specify how to calculate a dumping margin for a respondent that is not selected for individual review in an administrative review. Therefore, we look to section 735(c)(5)(A) of the Act, which explains how to calculate the “all others” rate in an investigation, for guidance. Consistent with how we would calculate the “all others” rate in an investigation, we are basing the dumping margin for non-selected companies on the weighted-average dumping margin calculated for the selected respondent, Shin Yang.

⁷ See section 751(a)(2)(C) of the Act.

As noted in the “Final Determination of No Shipments” section, above, Commerce will instruct CBP to liquidate any existing entries of merchandise produced by Sheng Yu, Tension Steel, Yieh Hsing, or P&J, but exported by other parties, at the rate for the intermediate reseller, if applicable, or at the all-others rate.

Cash Deposit Requirements

The following cash deposit requirements will be effective upon publication of the notice of final results of administrative review for all shipments of subject merchandise entered, or withdrawn from warehouse, for consumption on or after the publication date of the final results of this administrative review, as provided for by section 751(a)(2)(C) of the Act: (1) The cash deposit rate for each specific company listed above will be equal to the rate established in the final results of this administrative review; (2) for merchandise exported by producers or exporters not covered in this review, including the companies Commerce has determined had no shipments in these final results, but covered in a prior segment of this proceeding, the cash deposit rate will continue to be the company-specific rate published for the most recently completed segment in which the company was reviewed; (3) if the exporter is not a firm covered in this review, a prior review, or the original less-than-fair-value (LTFV) investigation, but the producer is, then the cash deposit rate will be the rate established for the most recently completed segment of this proceeding for the producer of the subject merchandise; and (4) the cash deposit rate for all other producers or exporters will continue to be 9.70 percent, the all-others rate established in the LTFV investigation.⁸ These cash deposit requirements, when imposed, shall remain in effect until further notice.

⁸ See Certain Circular Welded Carbon Steel Pipes and Tubes from Taiwan: Antidumping Duty Order, 49 FR 19369 (May 7, 1984).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and increase the subsequent assessment of double antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

We are issuing and publishing this notice in accordance with sections 751(a)(1) and 777(i)(1) of the Act and 19 CFR 351.213(h).

Dated: January 14, 2020.
Jeffrey I. Kessler,
Assistant Secretary for Enforcement and Compliance.

[FR Doc. 2020-00951 Filed 1-21-20; 8:45 am]

BILLING CODE 3510-DS-P